FEDERAL MARITIME COMMISSION

[Docket No. 08-07]

Petition of Olympus Growth Fund III, L.P. and Olympus Executive Fund, L.P. for Declaratory Order, Rulemaking or Other Relief Notice of Filing of Petition

Notice is hereby given that Olympus Growth Fund III, L.P. and Olympus Executive Fund, L.P. (“Petitioners”) have petitioned the Federal Maritime Commission (“Commission”) pursuant to 46 CFR 502.51, 68 and 69, for the Commission to either: (1) Issue a declaratory order clarifying that the “practice of re-routing the domestic inland transportation leg of a through intermodal shipment” by non-vessel-operating common carriers or other shippers does not violate the Shipping Act of 1984 (“Shipping Act”); (2) initiate a rulemaking to consider these issues; and/or (3) initiate a docketed proceeding with respect to informal compromise procedures said to be underway between Global Link Logistics, Inc. (“Global Link”) and the Commission's Bureau of Enforcement (“BOE”), and grant Petitioners leave to intervene in the Commission's investigation thereof. Petitioners also request emergency relief from the Commission in the form of a stay of the informal proceedings before the BOE concerning Global Link.

This Petition arises out of the sale of Global Link by Petitioners, and subsequent arbitration involving Petitioners and the purchasers of Global Link and their successors. Petitioners claim that the purchasers seek to undo the sales transaction in arbitration by asserting that Global Link's prior practice of re-routing the domestic inland transportation leg of a through shipment violated the Shipping Act's proscription against obtaining ocean transportation of property at less than the rates or charges than would otherwise be applicable. See 49 U.S.C. 41102(a) (formerly section 10(a)(1) of the Shipping Act). Petitioners further claim that this alleged Shipping Act violation is being used by purchasers in an attempt to establish a violation of the stock purchase agreement governing Global Link's sale, and thereby undo the transaction in arbitration. Petitioners assert that BOE “appears to be prepared to find” that Global Link's practice of re-routing the domestic inland portion of a through transportation movement violates the Shipping Act, which finding allegedly would have far-reaching adverse effects on parties to ocean shipping transactions.

Persons named in the Petition include Global Link Logistics Inc. and the Bureau of Enforcement. See 46 CFR 502.58(f)(2). Accordingly, such persons are requested to submit views or arguments in reply to the Petition no later than January 9, 2009. Replies shall consist of an original and fifteen (15) copies, be directed to the Secretary, Federal Maritime Commission, 800 North Capitol Street, NW., Washington, DC 20573-0001, and be served on Petitioners' counsel, Lewis R. Clayton, of Paul, Weiss, Rifkind, Wharton & Garrison LLP, 1285 Avenue of the Americas, New York, NY 10019-6064; and Warren L. Dean, Jr., of Thompson Coburn LLP, 1909 K Street, NW., Suite 600, Washington, DC 20006. A copy of the reply shall be submitted in electronic form (Microsoft Word 2003) by e-mail to secretary@fmc.gov. The Petition will be posted on the Commission's Web site at http://www.fmc.gov/reading/Dockets.asp. Replies filed in response to this petition also will be posted on the Commission's Web site at this location.

Karen V. Gregory,
Secretary.

[FR Doc. E8-31277 Filed 1-2-09; 8:45 am]

BILLING CODE 6730-01-P